SMALL BUSINESS ADMINISTRATION

[Disaster Declaration #21174 and #21175; TEXAS Disaster Number TX-20057]

Presidential Declaration Amendment of a Major Disaster for the State of Texas

AGENCY: U.S. Small Business Administration.

ACTION: Amendment 3.

SUMMARY: This is an amendment of the Presidential declaration of a major disaster for the State of Texas (FEMA-4879-DR), dated July 6, 2025.

Incident: Severe Storms, Straight-line Winds, and Flooding.

DATES: Issued on July 29, 2025.

Incident Period: July 2, 2025 through July 18, 2025.

Physical Loan Application Deadline Date: September 4, 2025.

Economic Injury (EIDL) Loan Application Deadline Date: April 6, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for the State of Texas, dated July 6, 2025, is hereby amended to include the following areas as adversely affected by the disaster:

Primary Counties (Physical Damage and Economic Injury Loans): Guadalupe, Kimble, McCulloch, Menard.

Contiguous Counties (Economic Injury Loans Only):

Texas: Bexar, Coleman, Comal, Gonzales, Sutton, Wilson.

All other information in the original declaration remains unchanged.

(Catalog of Federal Domestic Assistance Number 59008)

(Authority: 13 CFR 1234.3(b).)

James Stallings,
Associate Administrator, Office of Disaster Recovery & Resilience.

[FR Doc. 2025-14640 Filed 7-31-25; 8:45 am]

BILLING CODE 8026-09-P